DEPARTMENT OF THE TREASURY

Internal Revenue Service

Open Meeting of the Area 3 Taxpayer Advocacy Panel (Including the States of Florida, Georgia, Alabama, Mississippi, Louisiana, Arkansas and Tennessee)

AGENCY: Internal Revenue Service (IRS), Treasury.

ACTION: Notice.

SUMMARY: An open meeting of the Area 3 Taxpayer Advocacy Panel will be conducted in New Orleans, LA. The Taxpayer Advocacy Panel is soliciting public comments, ideas, and suggestions on improving customer service at the Internal Revenue Service.

DATES: The meeting will be held Friday, June 18, 2004 and Saturday, June 19, 2004.

FOR FURTHER INFORMATION CONTACT: Sallie Chavez at 1-888-912-1227 (toll-free), or 954-423-7979 (non toll-free).

SUPPLEMENTARY INFORMATION: Notice is hereby given pursuant to section 10 (a) (2) of the Federal Advisory Committee Act, 5 U.S.C. App. (1988) that an open meeting of the Area 3 Taxpayer Advocacy Panel will be held Friday, June 18, 2004, from 8 a.m. to 12 p.m. and from 1 p.m. to 5 p.m. e.d.t. and Saturday, June 19, 2004, from 8 a.m. to 12 p.m. e.d.t. in New Orleans, LA at Homewood Suites, 901 Poydras Street, New Orleans, LA 70112. For information or to confirm attendance, notification of intent to attend the meeting must be made with Sallie Chavez. Mrs. Chavez may be reached at 1-888-912-1227 or 954-423-7979 or write Sallie Chavez, 1000 South Pine Island Rd., Suite 340, Plantation, FL 33324, or post comments to the Web site: http://www.improveirs.org.

The agenda will include: Various IRS issues.

Dated: May 17, 2004.
Bernard Coston,
Director, Taxpayer Advocacy Panel.

[FR Doc. 04-11447 Filed 5-19-04; 8:45 am]

BILLING CODE 4830-01-P